CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its proposed renewal of the Learn and Serve America Programs and Performance Reporting System, also referred to as the Learn and Serve Systems and Information Exchange (LASSIE). The system collects annual program data from organizations that receive grants or subgrants through the Learn and Serve America program. Data collected through the system is used for grants management and annual reporting requirements.

Copies of the information collection requests can be obtained by contacting the office listed in the addresses section of this notice.

DATES: Written comments must be submitted to the individual and office listed in the ADDRESSES section by June 1, 2010.

ADDRESSES: You may submit comments, identified by the title of the information collection activity, by any of the following methods:

(1) By mail sent to: Corporation for National and Community Service, Learn and Serve America; Attention: Meredith Archer Hatch, Program Coordinator for Knowledge Management, Room 9613-C; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3477, Meredith Archer Hatch, Program Coordinator for Knowledge Management.

(4) Electronically through the Corporation's e-mail address system mhatch@cns.gov or through the government-wide comment system http://www.regulations.gov. Individuals who use a telecommunications device for the deaf (TTY-TDD) may call (202) 606-3472 between 8:30 a.m. and 5 p.m. eastern time, Monday through Friday.

FOR FURTHER INFORMATION CONTACT: Meredith Archer Hatch, (202) 606-7513, fax (202) 606-3477, or by e-mail at mhatch@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Learn and Serve America Program supports efforts in schools, higher education institutions, and community-based organizations to involve young people in meaningful service to their communities while improving academic, civic, social, and career-related skills. The Learn and Serve program is administered by the Corporation for National and Community Service and is funded through grants to states, national organizations, and institutions of higher education, and through them to individual schools, local education agencies, community-based organizations, and colleges and universities. Approximately 1,800 organizations receive Learn and Serve funding each year and report on their Learn and Serve-funded activities through the Learn and Serve America Programs and Performance Reporting System. All data is collected electronically and accessed via the Web site, http://www.lsareports.org.

Current Action

The Corporation seeks to renew the current information collection. The system collects annual data from those organizations that receive Learn and Serve America grants and subgrants. Data collected includes information on the scope and structure of service-learning activities funded through the grants; participants and hours; community partnerships; and institutional policies and practices that support service-learning. Minor modifications and adjustments will be made for the renewal to accommodate changes resulting for the Edward M. Kennedy Serve America Act (2009) and to minimize burden, improve reliability, and streamline reporting.

The information collection will otherwise be used in the same manner as the existing application. The Corporation also seeks to continue using the current application until the revised application is approved by OMB. The current application is due to expire on November 30, 2010.

Type of Review: Renewal.

Agency: Corporation for National and Community Service.

Title: Learn and Serve America Programs and Performance Reporting System.

OMB Number: 3045-0089.

Agency Number: None.

Affected Public: Learn and Serve America grantees and subgrantees.

Total Respondents: Approximately 1,800.

Frequency: Annual.

Average Time per Response: Averages one hour.

Estimated Total Burden Hours: 1,800 hours.

Total Burden Cost (capital/startup): None.

Total Burden Cost (operating/maintenance): None.

Comments submitted in response to this notice will be summarized and/or included in the request for Office of Management and Budget approval of the information collection request; they will also become a matter of public record.

Dated: March 23, 2010.
Cara Patrick,
Learn and Serve America.

[FR Doc. 2010-6955 Filed 3-29-10; 8:45 am]

BILLING CODE 6050-$$-P